DEPARTMENT OF AGRICULTURE

Submission for OMB Review; Comment Request

March 4, 2015.

The Department of Agriculture will submit the following information collection requirement(s) to OMB for review and clearance under the Paperwork Reduction Act of 1995, Public Law 104-13 on or after the date of publication of this notice. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725 17th Street NW., Washington, DC, 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by April 8, 2015. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Regulations for the Inspection of Eggs.

OMB Control Number: 0581-0113.

Summary of Collection: Congress enacted the Egg Products Inspection Act (21 U.S.C. 1031-1056) (EPIA) to provide a mandatory inspection program to assure egg products are processed under sanitary conditions, are wholesome, unadulterated, and properly labeled; to control the disposition of dirty and checked shell eggs; to control unwholesome, adulterated, and inedible egg products and shell eggs that are unfit for human consumption; and to control the movement and disposition of imported shell eggs and egg products that are unwholesome and inedible. Regulations developed under 7 CFR part 57 provide the requirements and guidelines for the Department and industry needed to obtain compliance. The Agricultural Marketing Service (AMS) will collect information using several forms. Forms used to collect information provide method for measuring workload, record of compliance and non compliance and a basis to monitor the utilization of funds.

Need and Use of the Information: AMS will use the information to assure compliance with the Act and regulations, to take administrative and regulatory action and to develop and revise cooperative agreements with the States, which conduct surveillance inspections of shell egg handlers and processors. If the information is not collected, AMS would not be able to control the processing, movement, and disposition of restricted shell eggs and egg products and take regulatory action in case of noncompliance.

Description of Respondents: Business or other for-profit; Federal Government; State, Local or Tribal Government.

Number of Respondents: 818.

Frequency of Responses: Recordkeeping; Reporting: On occasion; Quarterly.

Total Burden Hours: 1,909.

Agricultural Marketing Service

Title: Dairy Products Mandatory Sales Reporting.

OMB Control Number: 0581-0274.

Summary of Collection: The Mandatory Price Reporting Act of 2010 amended § 273(d) of the Agricultural Marketing Act of 1946, requiring the Secretary of Agriculture to establish an electronic reporting system for certain manufacturers of dairy products to report sales information under 7 CFR part 1170, the mandatory Dairy Product Mandatory Reporting Program. Data collection for cheddar cheese, butter, dry whey, or nonfat dry milk sales is limited to manufacturing plants producing annually 1 million pounds or more of one of the surveyed commodities specified in the program.

Need and Use of the Information: Persons engaged in manufacturing dairy products are required to provide the Department of Agriculture (USDA) certain information, including the price, quantity, and moisture content, where applicable, of dairy products sold by the manufacturer. Various manufacturer reports are filed electronically on a weekly basis. Additional paper forms are filed by manufacturers on an annual basis to validate participation in the mandatory reporting program. Manufacturers and other persons storing dairy products must also report information on the quantity of dairy products stored. USDA publishes composites of the information obtained to help industry members make informed marketing decisions regarding dairy products. The information is also used to establish minimum prices for Class III and Class IV milk under Federal milk marketing orders. Without this information USDA would not be able to verify compliance with applicable regulations.

Description of Respondents: Businesses—Cheddar Cheese, 40 lb. Blocks.

Number of Respondents: 181.

Frequency of Responses: Reporting: On occasion; Weekly; Annually.

Total Burden Hours: 2,331.

Charlene Parker,
Departmental Information Collection Clearance Officer.

[FR Doc. 2015-05397 Filed 3-6-15; 8:45 am]

BILLING CODE 3410-02-P